Proclamation 10893 of February 3, 2025

Career and Technical Education Month, 2025

By the President of the United States of America

A Proclamation

Hardworking Americans are the backbone of our great Nation. Our workforce is the best in the world, and my Administration is dedicated to giving our students and workers the tools they need to succeed in a time where emerging technologies are advancing at an unprecedented pace. During Career and Technical Education Month, we reaffirm our belief in excellence by putting America first and investing in the best training and retraining opportunities that will result in a stronger workforce and a booming economy.

Under my leadership, America will once again champion a culture where hard work is rewarded and equip our people with real skills for real careers that our communities are in desperate need to fill. During my first term, I proudly signed the Strengthening Career and Technical Education for the 21st Century Act, which provided millions of students with excellent vocational opportunities. And we saw unparalleled growth and economic development, empowering students and workers to undertake new high-wage careers, especially in science, technology, and engineering. We will make technology work for Americans, not Americans for technology.

America is well-positioned at the forefront of innovation and entrepreneurship, and our history of ingenuity and grit is unrivaled. Over the next 4 years, we will rebuild our economy, raise wages, and strengthen families. My Administration will invest in the next generation and expand access to high-quality career and technical education for all Americans. We will unleash the enormous potential of the American people and provide students and workers with the necessary skills training to ensure that our Nation dominates the 21st century.

This February, we celebrate our incredible workers who are making America bigger, better, and more beautiful than ever before. By offering more alternatives to higher education, we will train college-aged kids in relevant skills for the 21st century economy. We will put America first, invest in our people, and lead the world into a new golden age.

NOW, THEREFORE, I, DONALD J. TRUMP, President of the United States of America, by virtue of the authority vested in me by the Constitution and the laws of the United States, do hereby proclaim February 2025 as Career and Technical Education Month.

IN WITNESS WHEREOF, I have hereunto set my hand this third day of February, in the year of our Lord two thousand twenty-five, and of the Independence of the United States of America the two hundred and forty-ninth.

[FR Doc. 2025-02404

Filed 2-5-25; 11:15 am]

Billing code 3395-F4-P